DEPARTMENT OF HEALTH AND HUMAN SERVICES

Administration for Children and Families

Withdrawal of 60-Day Notice of Proposed Information Collection: Unaccompanied Children Case Summary Form

AGENCY: Administration for Children and Families, HHS.

ACTION: Withdrawal: Notice.

SUMMARY: On October 4, 2016 at 81 FR 68420, ACF published a 60 Day Notice of Proposed Information Collection entitled “Unaccompanied Children Case Summary Form.” ACF is withdrawing this notice from the Federal Register.

FOR FURTHER INFORMATION CONTACT: Robert Sargis, Reports Clearance Officer, Office of Planning Research and Evaluation.

Robert Sargis,
Reports Clearance Officer.

[FR Doc. 2016-26686 Filed 11-3-16; 8:45 am]

BILLING CODE 4184-01-P